DEPARTMENT OF JUSTICE

Notice of Lodging of Consent Decree Pursuant to the Comprehensive Environmental Response, Compensation, and Liability Act, 42 U.S.C. 9601 to 9675

Notice is hereby given that two proposed consent decrees in United States v. Weil-McLain Inc., et al., Civil Action No. 3:00CV0593RM, were lodged on September 25, 2000 with the United States District Court for the Northern District of Indiana, South Bend Division. Both consent decrees concern claims under the Comprehensive Environmental Compensation and Liability Act (“CERCLA”) in connection with the Waste, Inc. Superfund Site located in Michigan City, Indiana (the “Site”). One proposed decree (the “Conversion Consent Decree”) resolves the United States' claims for costs, civil penalties, and injunctive relief against nine settling defendants who failed to comply with a unilateral administrative order issued by the U.S. Environmental Protection Agency in December 1995. This decree also resolves claims for past costs incurred in connection with the Site against forty-three (43) other settling defendants and ensures the continued implementation of the remedial action at the Site that was begun under EPA's 1995 unilateral administrative order.

The second proposed consent decree (the “MWS Consent Decree”) resolves the United States' claims against 18 other defendants for past costs incurred in responding to the disposal of municipal solid waste (MWS) at the Site. The settling defendants under consent decree sent only MSW to the Site, and they will pay $227,000 into a special account for use in remediation of the Site.

The Department of Justice will receive for a period of thirty (30) days from the date of this publication comments relating to the consent decree. Comments should be addressed to the Assistant Attorney General, Environment and Natural Resources Division, P.O. Box 7611, N.W., Washington, D.C. 20044-7611, and should refer to United States v. Weil-McLain, Inc., et al., No. 3:00CV0593RM, D.J. Ref. 90-11-3-1376B.

The consent decrees may be examined at the Office of the United States Attorney, 204 South Main Street, South Bend, Indiana 46601-2191; and at the Region 5 Office of the Environmental Protection Agency, 77 West Jackson Boulevard, Chicago, Illinois 60604. A copy of the consent decrees may also be obtained by mail from the Consent Decree Library, P.O. Box 7611, U.S. Department of Justice, Washington, D.C. 20044-7611. In requesting a copy of the Conversion Consent Decree with attachments, including the draft final MSW Consent Decree, please enclose a check in the amount of $36.00 ($.25 per page reproduction cost) payable to the Consent Decree Library. In requesting a copy of just the Conversion Consent Decree without attachments, please enclose a check for $21.00 payable to the Consent Decree Library. In requesting a copy of just the MSW Consent Decree, please enclose a check in the amount of $4.00 payable to the Consent Decree Library.

Bruce S. Gelber,
Deputy Chief, Environmental Enforcement Section, Environment and Natural Resources Division.

[FR Doc. 00-29292 Filed 11-16-00; 8:45 am]

BILLING CODE 4410-15-M